DEPARTMENT OF VETERANS AFFAIRS

[OMB Control No. 2900—New VA Form (VA Form 10-0532a-k)]

Agency Information Collection: Emergency Submission for OMB Review (PACT: Clinical Innovation Study—Helping Veterans Manage Chronic Pain); Comment Request

AGENCY: Veterans Health Administration, Department of Veterans Affairs.

ACTION: Notice.

SUMMARY: In compliance with the Paperwork Reduction Act (PRA) of 1995 (44 U.S.C., 3501-3521), this notice announces that the Department of Veterans Affairs (VA), will submit to the Office of Management and Budget (OMB) the following emergency proposal for the collection of information under the provisions of the Paperwork Reduction Act (44 U.S.C. 3507(j)(1)). An emergency clearance is being requested for information needed to assess the effectiveness of pain care management provided to veterans.

DATES: Comments must be submitted on or before August 31, 2012.

ADDRESSES: Send comments and recommendations concerning any aspect of the information collection to VA's OMB Desk Officer, OMB Human Resources and Housing Branch, New Executive Office Building, Room 10235, Washington, DC 20503, (202) 395-7316 or Fax (202) 395-6974. Please refer to “2900—New VA Form (VA Form 10-0532a-k).

FOR FURTHER INFORMATION CONTACT: Denise McLamb, Enterprise Records Service (005R1B), Department of Veterans Affairs, 810 Vermont Avenue NW., Washington, DC 20420, (202) 632-7479, Fax (202) 632-7583 or email: denise.mclamb@va.gov. Please refer to “OMB Control No. 2900—New VA Form (VA Form 10-0532a-k).”

SUPPLEMENTARY INFORMATION:

Titles: Clinical Innovation Study—Helping Veterans Manage Chronic Pain.

a. Pain Care Management Tracking Tool, VA Form 10-0532.

b. Pain Care Management Self Monitoring Form (unpublished), VA Form 10-0532a.

c. Pain Outcomes Questionnaire (Clark, Gironda, & Young, 2003), VA Form 10-0532b.

d. The Multidimensional Pain Inventory (MPI; Kearns, Turk, & Rudy, 1985), VA Form 10-0532c.

e. Pain Catastrophizing Scale (Osman, Barrios, Gutierrez, Kopper, Merrifield, & Grittmann, 2000), VA Form 10-0532d.

f. The Oswestry Disability Index (Fairbank & Pynsent, 2000), VA Form 10-0532e.

g. Brief Pain Inventory—Short Form (BPI; Cleeland, 1991). Administered at baseline and each follow-up, VA Form 10-0532f.

h. Fear-Avoidance Beliefs Questionnaire (FABQ; Waddell, Newton, et al., 1993), VA Form 10-0532g.

i. The Brief COPE (Carver, 1997), VA Form 10-0532h.

j. Depression and Anxiety Stress Scales (DASS-21; Lovibond & Lovibond, 1995), VA Form 10-0532i.

k. Patient Health Questionnaire (PHQ-9; Kroenke, Spitzer, & Williams, 2001), VA Form 10-0532j.

l. Generalized Anxiety Disorder (GAD-7); Spitzer, Kroenke, Williams, & Lowe, 2006), VA Form 10-0532k.

OMB Control Number: 2900-New.

Type of Review: New data collection.

Abstract: The data collected on VA Forms VA Form 10-0532a-k will be used to: (1) Assess the effectiveness of patient care management (PCM) in increasing patients' functionality, improving quality of life, and improving paint control relative to usual care and (2) to assess the impact of PCM on depression and anxiety relative to usual care. This data collection's model has been designed to serve patients by augmenting existing pain management interventions (e.g., medications, physical therapy) by teaching pain care management skills that patients can incorporate into their daily activities. VA will use the information to evaluate the effectiveness of the intervention so that it can most effectively be applied to future patients with chronic pain problems.

Affected Public: Individuals or households.

Estimated Annual Burden:

a. VA Form 10-0532—67 hours.

b. VA Form 10-0532a—80 hours.

c. VA Form 10-0532b—200 hours.

d. VA Form 10-0532c—80 hours.

e. VA Form 10-0532d—53 hours.

f. VA Form 10-0532e—53 hours.

g. VA Form 10-0532f—133 hours.

h. VA Form 10-0532g—19 hours.

i. VA Form 10-0532h—27 hours.

j. VA Form 10-0532i—93 hours.

k. VA Form 10-0532j- 67 hours.

l. VA Form 10-0532k—67 hours.

Estimated Average Burden per Respondent:

a. VA Form 10-0532—5 minutes.

b. VA Form 10-0532a—10 minutes.

c. VA Form 10-0532b—15 minutes.

d. VA Form 10-0532c—15 minutes.

e. VA Form 10-0532d—10 minutes.

f. VA Form 10-0532e—10 minutes.

g. VA Form 10-0532f—10 minutes.

h. VA Form 10-0532g—7 minutes.

i. VA Form 10-0532h—10 minutes.

j. VA Form 10-0532i—7 minutes.

k. VA Form 10-0532j—5 minutes.

l. VA Form 10-0532k—5 minutes,

Frequency of Response: Monthly.

Estimated Number of Respondents:

a. VA Form 10-0532—800.

b. VA Form 10-0532a—480.

c. VA Form 10-0532b—800.

d. VA Form 10-0532c—320.

e. VA Form 10-0532d—320.

f. VA Form 10-0532e—320.

g. VA Form 10-0532f—800.

h. VA Form 10-0532g—160.

i. VA Form 10-0532h—160.

j. VA Form 10-0532i—800.

k. VA Form 10-0532j—800.

l. VA Form 10-0532k—800

Dated: August 16, 2012.
By direction of the Secretary.
Denise McLamb,
Program Analyst Director, Enterprise Records Service.

[FR Doc. 2012-20457 Filed 8-20-12; 8:45 am]

BILLING CODE 8320-01-P